NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 17, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2015-014

1. Applicant

Drs. Vasilii V. Petrenko and Jeffrey P. Severinghaus, Scripps Institution of Oceanography, UC San Diego, 9500 Gilman Dr., La Jolla, CA.

Activity for Which Permit Is Requested

ASPA entry. Applicants wish to drill into the subglacial portion of the ASPA, from 100 to 150m in depth, to extract ice cores to investigate the extent of cosmic ray produced Δ¹⁴C in glacial ice. No drilling fluids would be used so as to prevent endangering the biological values protected by the ASPA.

Location

ASPA 152, Lower Taylor Glacier and Blood Falls, McMurdo Dry Valleys, Victoria Land.

Dates

January 1-31, 2015.

Nadene G. Kennedy,
Polar Coordination Specialist, Division of Polar Programs.

[FR Doc. 2014-27108 Filed 11-14-14; 8:45 am]

BILLING CODE 7555-01-P